DEPARTMENT OF THE TREASURY

United States Mint

Notification of American Eagle Platinum Coin Price Increases

SUMMARY: The rise in the price of platinum per ounce requires that the United States Mint raise the prices on its 2007 American Eagle Platinum Proof and Uncirculated Coins.

Pursuant to the authority that 31 U.S.C. 5112(k) grants the Secretary of the Treasury to mint and issue platinum coins, the United States Mint mints and issues American Eagle Platinum Proof and Uncirculated Coins in four denominations—one ounce, one-half ounce, one-quarter ounce, one-tenth ounce, and a four-coin set which contains one coin of each denomination. The United States Mint is changing the price of these coins to reflect the increase in value of the underlying precious metal content of the coins—the result of recent increases in the market price of platinum. The price of platinum has increased substantially since the initial prices were set for the 2007 American Eagle Platinum Proof and Uncirculated Coins

Accordingly, effective November 5, 2007, the United States Mint will commence selling the following 2007 American Eagle Platinum Proof and Uncirculated Coins at the prices indicated below:

Description | Price
American Eagle Platinum Proof Coins:
One ounce coin | $1,740.95
One-half ounce platinum coin | 880.95
One-quarter ounce platinum coin | 475.95
One-tenth ounce platinum coin | 244.95
Four-coin platinum set | 3,207.95
American Eagle Platinum Uncirculated Coins:
One-ounce platinum coin | 1,630.95
One-half ounce platinum coin | 830.95
One-quarter ounce platinum coin | 435.95
One-tenth ounce platinum coin | 204.95
Four-coin platinum set | 2,976.95

FOR FURTHER INFORMATION CONTACT: Gloria C. Eskridge, Associate Director for Sales and Marketing, United States Mint, 801 Ninth Street, NW., Washington, DC 20220; or call 202-354-7500.

Authority: 31 U.S.C. 5112 & 9701.

Dated: November 1, 2007.
Edmund C. Moy,
Director, United States Mint.

[FR Doc. E7-21934 Filed 11-7-07; 8:45 am]

BILLING CODE 4810-02-P